DEPARTMENT OF TRANSPORTATION

Research and Innovative Technology Administration

[Docket No. RITA-2009-0004]

Notice of Submission to OMB for an Information Collection: National Census of Ferry Operators

AGENCY: Bureau of Transportation Statistics (BTS), Research and Innovative Technology Administration (RITA), DOT.

ACTION: Notice.

SUMMARY: In accordance with the requirements of section 3506(c)(2)(A) of the Paperwork Reduction Act of 1995, this notice announces the intention of the BTS to request the Office of Management and Budget's (OMB's) approval for an information collection related to the Nation's ferry operations. The information to be collected will be used to produce a descriptive database of existing ferry operations. A summary report of survey findings will be published on the BTS Web page. The Federal Register Notice with a 60-day comment period soliciting comments on the following information collection was published on December 1, 2009 [74 FR 62880].

DATES: Comments must be submitted on or before March 10, 2010.

FOR FURTHER INFORMATION CONTACT: Kenneth W. Steve, (202) 366-4108, NCFO Project Manager, BTS, RITA, Department of Transportation, 1200 NJ Ave., SE., Room E34-431, Washington, DC 20590. Office hours are from 9 a.m. to 6:30 p.m., E.T., Monday through Friday, except Federal holidays.

SUPPLEMENTARY INFORMATION:

Title: National Census of Ferry Operators (NCFO).

Type of Request: Approval of an information collection.

Affected Public: Approximately 260 ferry operators nationwide.

Abstract: The Transportation Equity Act for the 21st Century (TEA-21) (Pub. L. 105-178), section 1207(c), directed the Secretary of Transportation to conduct a study of ferry transportation in the United States and its possessions. In 2000, the Federal Highway Administration (FHWA) Office of Intermodal and Statewide Planning conducted a survey of approximately 250 ferry operators to identify: (1) Existing ferry operations including the location and routes served; (2) source and amount, if any, of funds derived from Federal, State, or local governments supporting ferry construction or operations; (3) potential domestic ferry routes in the United States and its possessions and to develop information on those routes; and (4) potential for use of high speed ferry services and alternative-fueled ferry services. The Safe, Accountable, Flexible Efficient Transportation Equity Act—A Legacy for Users (SAFETEA-LU) Public Law 109-59, Section 1801(e) requires that the Secretary, acting through the BTS, shall establish and maintain a national ferry database containing current information regarding routes, vessels, passengers and vehicles carried, funding sources and such other information as the Secretary considers useful.

The BTS data collection will rely on a Web-based survey with telephone follow-up. An electronic version of the questionnaire will also be available to respondents on request. Data will be collected from the entire population of ferry operators (estimate 260 or less). The survey will request the respondents to provide information such as: The points served; the type of ownership; the number of passengers and vehicles carried in the past 12 months; vessel descriptions (including type of fuel), peak periods of use, and intermodal connectivity.

Data Confidentiality Provisions: The National Census of Ferry Operators may collect confidential business information. The confidentiality of these data will be protected under 49 CFR 7.17. In accordance with this regulation, only statistical and non-sensitive business information will be made available through publications and public use data files. The statistical public use data are intended to provide an aggregated source of information on ferry boat operations nationwide.

Frequency: The survey will be conducted every other year.

Estimated Burden: The total annual burden (in the year that the survey is conducted) is estimated to be just under 87 hours (that is 20 minutes per respondent for 260 respondents equals 5,200 minutes or 86.7 hours i.e., 86:42).

Response to Comments: There were no public comments posted in response to the 60-day notice.

Public Comments Invited: Interested parties are invited to send comments regarding any aspect of this information collection, including, but not limited to: (1) The necessity and utility of the information collection for the proper performance of the functions of the DOT; (2) the accuracy of the estimated burden; (3) ways to enhance the quality, utility, and clarity of the collected information; and (4) ways to minimize the collection burden without reducing the quality of the collected information. Send comments to the Office of Information and Regulatory Affairs, Office of Management and Budget, 725 17th Street, NW., Washington, DC 20503, Attention: BTS Desk Officer.

Issued in Washington, DC, on this 2nd day of February, 2010.
Steven D. Dillingham,
Director, Bureau of Transportation Statistics, Research and Innovative Technology Administration, U.S. Department of Transportation.

[FR Doc. 2010-2650 Filed 2-5-10; 8:45 am]

BILLING CODE 4910-HY-P